DEPARTMENT OF ENERGY

Federal Energy Regulatory Commission

[Docket No. ER01-1012-000, et al.]

Sierra Pacific Power Company, et al.; Electric Rate and Corporate Regulation Filings

January 24, 2001.

Take notice that the following filings have been made with the Commission:

1. Sierra Pacific Power Company

[Docket No. ER01-1012-000]

Take notice that on January 19, 2001, Sierra Pacific Power Company (Sierra) tendered for filing Service Agreements (Service Agreements) with El Paso Merchant Energy, L.P., and Tri-State Generation and Transmission Assoc., Inc., for Non-Firm and Short-Term Firm Point-to-Point Transmission Service under Sierra Pacific Resources Operating Companies FERC Electric Tariff, First Revised Volume No. 1, Open Access Transmission Tariff (Tariff):

Sierra is filing the executed Service Agreements with the Commission in compliance with sections 13.4 and 14.4 of the Tariff and applicable Commission regulations. Sierra also submitted revised Sheet Nos. 195 and 196 (Attachment E) to the Tariff, which is an updated list of all current subscribers. Sierra requests waiver of the Commission's notice requirements to permit an effective date of January 22, 2001 for Attachment E, and to allow the Service Agreements to become effective according to their terms.

Copies of this filing were served upon the Public Utilities Commission of Nevada, the Public Utilities Commission of California and all interested parties.

Comment date: February 9, 2001, in accordance with Standard Paragraph E at the end of this notice.

2. Minnesota Power, Inc.

[Docket No. ER01-1013-000]

Take notice that on January 19, 2001, Minnesota Power, Inc. and Superior Water, Light and Power tendered for filing signed Service Agreements for Non-Firm and Short-Term Point-to-Point Transmission Service with OTPWholesaleMarketing under its Transmission Service Agreement to satisfy its filing requirements under this tariff.

Comment date: February 9, 2001, in accordance with Standard Paragraph E at the end of this notice.

3. Redbud Energy LP

[Docket No. ER01-1011-000]

Take notice that on January 19, 2001, Redbud Energy LP (Redbud), tendered for filing an application for waivers and blanket approvals under various regulations of the Commission and for an order accepting Redbud's Electric Rate Schedule FERC No. 1 to be effective on February 1, 2001.

Redbud intends to engage in electric power and energy transactions as a marketer and a broker. In transactions where Redbud sells electric energy, it proposes to make such sales on rates, terms and conditions to be mutually agreed to with the purchasing party. Redbud's proposed Rate Schedule also permits it to reassign transmission capacity.

Comment date: February 9, 2001, in accordance with Standard Paragraph E at the end of this notice.

4. Trigen-Syracuse Energy Corporation

[Docket No. ER01-1010-000]

Take notice that on January 19, 2001, Trigen-Syracuse Energy Corporation (Trigen-Syracuse), tendered for filing with the Federal Energy Regulatory Commission (Commission) a First Revised Rate Schedule FERC No. 1, containing a proposed amendment (the Amendment) to its power purchase agreement with Sempra Energy Trading Corp. The Amendment would change the term thereof and permit sales of excess energy by Trigen-Syracuse.

Comment date: February 9, 2001, in accordance with Standard Paragraph E at the end of this notice.

5. Puget Sound Energy, Inc.

[Docket No. ER01-1009-000]

Take notice that on January 19, 2001, Puget Sound Energy, Inc., tendered for filing an executed Special Storage Agreement with Avista Corporation (AVISTA).

A copy of the filing was served upon AVISTA.

Comment date: February 9, 2001, in accordance with Standard Paragraph E at the end of this notice.

6. Exelon Generation Company L.L.C.

[Docket No. ER01-1008-000]

Take notice that on January 19, 2001, Exelon Generation Company, L.L.C. (Exelon), tendered for filing a power sales agreement between Exelon and CNG Energy Services Corporation (CNG).

Exelon states that a copy of the filing was served on CNG.

Comment date: February 9, 2001, in accordance with Standard Paragraph E at the end of this notice.

7. PJM Interconnection, L.L.C.

[Docket No. ER01-1007-000]

Take notice that on January 19, 2001, PJM Interconnection, L.L.C. (PJM), tendered for filing the following executed agreements: (i) A service agreement for network integration transmission service for Allegheny Energy Supply Company, LLC (Allegheny); (ii) a service agreement for long-term firm point-to-point transmission service for Cargill-Alliant, LLC (Cargill-Alliant); (iii) a service agreement for long-term firm point-to-point transmission service for The Cincinnati Gas & Electric Company, PSI Energy, Inc. (collectively Cinergy Operating Companies) and Cinergy Services, Inc. as agent for and on behalf of the Cinergy Operating Companies (Cinergy Operating Cos.); (iv) a service agreement for long-term firm point-to-point transmission service for PECO Energy Power Team (PECO); and (v) a service agreement for long-term firm point-to-point transmission service for PECO.

Copies of this filing were served upon Allegheny, Cargill-Alliant, Cinergy Operating Cos., PECO, and the state commissions within the PJM control area.

Comment date: February 9, 2001, in accordance with Standard Paragraph E at the end of this notice.

8. Consumers Energy Company

[Docket No. ER01-1005-000]

Take notice that on January 19, 2001, Consumers Energy Company (Consumers), tendered for filing executed and Non-Firm Point to Point Transmission Service Agreements with Engage Energy America Corp. (Customer) pursuant to the Joint Open Access Transmission Service Tariff filed on December 31, 1996 by Consumers and The Detroit Edison Company (Detroit Edison).

Both Agreements have effective dates of January 1, 2001.

Copies of the agreements were served upon the Michigan Public Service Commission, Detroit Edison, and the Customer.

Comment date: February 9, 2001, in accordance with Standard Paragraph E at the end of this notice.

9. PJM Interconnection, L.L.C.

[Docket No. ER01-1006-000]

Take notice that on January 19, 2001, PJM Interconnection, L.L.C. (PJM), tendered for filing the following executed agreements: (i) an umbrella service agreement for short-term firm point-to-point transmission service for BGE Home Products & Services, Inc. (BGE); and (ii) an umbrella service agreement for short-term non-firm point-to-point transmission service for BGE.

Copies of this filing were served upon BGE, and the state commissions within the PJM control area.

Comment date: February 9, 2001, in accordance with Standard Paragraph E at the end of this notice.

10. Consumers Energy Company

[Docket No. ER01-1004-000]

Take notice that on January 19, 2001, Consumers Energy Company (Consumers), tendered for filing an executed Network Integration Transmission Service Agreement with Municipal Cooperative Coordinated Pool (Customer) pursuant to the Joint Open Access Transmission Service Tariff filed on December 31, 1996 by Consumers and The Detroit Edison Company (Detroit Edison).

The Agreement has an effective date of January 1, 2001.

Copies of the filed agreement were served upon the Michigan Public Service Commission, Detroit Edison, and the Customer.

Comment date: February 9, 2001, in accordance with Standard Paragraph E at the end of this notice.

11. American Transmission Company LLC

[Docket No. ER01-1003-000]

Take notice that on January 19, 2001, American Transmission Company LLC (ATCLLC), tendered for filing a Network Operating Agreement and Network Integration Transmission Service Agreement between ATCLLC and the City of Kiel Utilities.

ATCLLC requests an effective date of January 1, 2001.

Comment date: February 9, 2001, in accordance with Standard Paragraph E at the end of this notice.

12. Dearborn Industrial Generation, L.L.C.

[Docket No. ER01-570-001]

Take notice that on January 19, 2001, Dearborn Industrial Generation, L.L.C. (DIG), tendered for filing pursuant to Rule 205, 18 CFR 385.205, an amendment to its December 1, 2000 petition for waivers and blanket approvals under various regulations of the Commission and for an order accepting its FERC Electric Tariff No. 2, to be effective at the earliest possible time.

DIG proposes to amend its December 1, 2000 petition by including a service agreement for sales to its public utility affiliate, Consumers Energy Company (CECo). This service agreement was inadvertently omitted from DIG's original filing.

Comment date: February 9, 2001, in accordance with Standard Paragraph E at the end of this notice.

13. Carolina Power & Light Company

[Docket No. ER01-498-001]

Take notice that on January 19, 2001, Carolina Power & Light Company (CP&L), tendered for filing a revised copy of the Market Based Rates Tariff, FERC Electric Volume No. 4, as Ordered by The Commission.

Copies of the filing were served upon the North Carolina Utilities Commission and the South Carolina Public Service Commission.

Comment date: February 9, 2001, in accordance with Standard Paragraph E at the end of this notice.

14. Xcel Energy Operating Companies, Northern States Power Company, Northern States Power Company (Wisconsin)

[Docket No. ER01-278-001]

Take notice that on January 16, 2001, Northern States Power Company and Northern States Power Company (Wisconsin) (jointly NSP), wholly-owned utility operating company subsidiaries of Xcel Energy Inc., tendered for filing an Appendix Cover Sheet for the Connection Agreement between NSP and Great River Energy.

NSP requests that the Commission accept the Appendix Cover Sheet effective October 1, 2000, and requests waiver of the Commission's notice requirements in order for the agreements to be accepted for filing on the date requested.

Comment date: February 6, 2001, in accordance with Standard Paragraph F at the end of this notice.

15. Xcel Energy Operating Companies,

Northern States Power Company, Northern States Power Company (Wisconsin)

[Docket No. ER01-277-001]

Take notice that on January 16, 2001, Northern States Power Company and Northern States Power Company (Wisconsin) (jointly NSP), wholly-owned utility operating company subsidiaries of Xcel Energy Inc., tendered for filing an Appendix Cover Sheet for the Firm Point-to-Point Transmission Service Agreement between NSP and Madison Gas & Electric Company.

NSP requests that the Commission accept the Appendix Cover Sheet effective October 1, 2000, and requests waiver of the Commission's notice requirements in order for the agreements to be accepted for filing on the date requested.

Comment date: February 6, 2001, in accordance with Standard Paragraph E at the end of this notice.

16. Rockingham Power, L.L.C.

[Docket No. ER01-245-001]

Take notice that on January 18, 2001, Rockingham Power, L.L.C. (Rockingham) tendered for filing pursuant to section 205 of the Federal Power Act (FPA) (16 U.S.C. 824(d) (1998)), and part 35 of the Commission's Regulations, a First Revised Sheet No. 6 to its tariff for Emergency Redispatch Service in compliance the Commission's December 26, 2000 Order in the above-referenced docket. Rockingham Power, L.L.C., 93 FERC 61,310 (2000).

Comment date: February 8, 2001, in accordance with Standard Paragraph E at the end of this notice.

17. Ouachita Power, LLC

[Docket Nos. EC01-59-000 and ER00-2235-001]

Take notice that on January 18, 2001, Ouachita Power, LLC (Ouachita) tendered for filing an application under section 203 of the Federal Power Act for approval of the transfer of a 50 percent non-managing membership interest in Ouachita to MEP-I LLC, which is an indirect, wholly-owned subsidiary of GE Capital Services Structured Financial Group (GE Capital). Ouachita is a limited liability company organized under the Delaware Limited Liability Company Act for the purpose of developing, owning, and operating an approximately 816 MW electric generation facility near the city of Sterlington, Ouachita Parish, Louisiana. In accordance with an earlier Commission order accepting for filing Ouachita's market-based rate tariff, the application also reports under section 205 of the FPA that the transaction is a change in status insofar as Ouachita will become a non-controlled affiliate of GE Capital as a result of the transfer of interest.

Comment date: February 8, 2001, in accordance with Standard Paragraph E at the end of this notice.

18. American Transmission Company LLC

[Docket No. ER01-1020-000]

Take notice that on January 19, 2001, American Transmission Company LLC (ATCLLC), tendered for filing a Network Operating Agreement and Network Integration Transmission Service Agreement between ATCLLC and Wisconsin Public Power Inc.

ATCLLC requests an effective date of January 1, 2001.

Comment date: February 9, 2001, in accordance with Standard Paragraph E at the end of this notice.

19. Consumers Energy Company

[Docket No. ER01-1021-000]

Take notice that on January 19, 2001, Consumers Energy Company (Consumers), tendered for filing executed amendments to Transmission Service Agreements with L. Perrigo Company and Brunswick Bowling & Billiards Corporation (jointly Customers) pursuant to Consumers' Open Access Transmission Service Tariff filed on July 9, 1996 by Consumers. The amendments extend the term of the Service Agreements.

Both amendments have effective dates of January 1, 2001.

Copies of the filed agreements were served upon the Michigan Public Service Commission and the Customers.

Comment date: February 9, 2001, in accordance with Standard Paragraph E at the end of this notice.

20. American Transmission Company LLC

[Docket Nos. ER01-366-001, ER01-380-001, ER01-381-001, ER01-392-001, ER01-483-001, ER01-484-001, ER01-488-001, ER01-521-001, ER01-610-001, ER01-679-001, ER01-795-001, ER01-825-001, and ER01-835-001]

Take notice that on January 17, 2001, American Transmission Company LLC (ATCLLC), tendered for filing designations for the interconnection agreements with American Transmission Company LLC, which were inadvertently omitted when the Agreements were originally filed. ATCLLC requests an effective date of January 1, 2001.

Comment date: February 7, 2001, in accordance with Standard Paragraph E at the end of this notice.

21. Xcel Energy Operating Companies, Northern States Power Company, Northern States Power Company (Wisconsin)

[Docket No. ER01-1014-000]

Take notice that on January 19, 2001, Northern States Power Company (NSP) and Northern States Power Company (Wisconsin) (NSP) (jointly the NSP Companies), tendered for filing a “Restated Agreement to Coordinate Planning and Operations and Interchange Power and Energy between Northern States Power Company and Northern States Power Company (Wisconsin)” (hereafter Restated Interchange Agreement), dated January 18, 2001. The Restated Interchange Agreement does not substantively change the currently effective Interchange Agreement between NSP(Minnesota) and NSPW dated September 17, 1984, but is being restated to comply with Order No. 614 filing requirements. The Restated Interchange Agreement also includes annual revisions to certain rate formula exhibits, as required by the 1984 Interchange Agreement.

The applicants request the Restated Interchange Agreement be effective January 1, 2001. Pursuant to Order No. 614, the NSP Companies propose the Restated Interchange Agreement be designated as NSP Electric Rate Schedule FERC No. 2, to be contained in the Xcel Energy Operating Companies FERC Electric Tariff, Original Volume No. 3.

Comment date: February 9, 2001, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 01-2632 Filed 1-30-01; 8:45 am]

BILLING CODE 6717-01-U